DEPARTMENT OF THE TREASURY

Submission for OMB Review; Comment Request

January 19, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 28, 2005, to be assured of consideration.

Internal Revenue Service (IRS)

OMB Number: 1545-1624.

Notice Number: Notice 98-52.

Regulation Project Number: REG-108639-99 Final.

Type of Review: Extension.

Title: Notice 98-52 Cash or Deferred Arrangements: Nondiscrimination; REG-108639 Final Retirement Plans; Cash or Deferred Arrangements Under Section 401(k) and Matching Contributions or Employee Contributions Under Section 401(m).

Description: Section 1433(a) of the Small Business Job Protection Act of 1996 requires that the Service provide nondiscriminatory safe harbors with respect to section 401(k)(12) and section 401(m)(11) for plan years beginning after December 31, 1998. This notice implements that statutory requirement.

Respondents: Business or other for-profit.

Estimated Number of Respondents: 60,000.

Estimated Burden Hours Respondent: 1 hour, 20 minutes.

Frequency of response: On occasion.

Estimated Total Reporting Burden: 80,000 hour.

OMB Number: 1545-1640.

Regulation Project Number: REG-104492-98 NPRM.

Type of Review: Extension.

Title: Mark to Market Accounting for Dealers in Commodities and Traders in Securities or Commodities.

Description: The collection of information in this proposed regulation is required by the Internal Revenue Service to determine whether an exemption from mark-to-market treatment is properly claimed. This information will be used to make that determination upon audit of taxpayers' books and records. The likely record keepers are businesses or other for-profit institution.

Respondents: Business or other for-profit, Individuals or households.

Estimated Number of Respondents: 1,000.

Estimated Burden Hours Respondent: 1 hour.

Estimated Total Reporting Burden: 1,000 hours.

OMB Number: 1545-1739.

Form Number: IRS Forms 9460 and 9477.

Type of Review: Extension.

Title: Tax Forms Inventory Report.

Description: These forms are designed to collect tax forms inventory information from post offices, libraries, and other entities that distribute federal tax forms. Data is collected detailing the quantities and types of tax forms remaining at the end of the filing season. This data is combined with shipment data for each account and used to establish forms distribution guidelines for the following year. Source data is collected to verify that the different entities received tax forms with the correct code.

Respondents: Business or other for-profit, Not-for-profit institutions, Federal Government.

Estimated Number of Respondents: 14,000.

Estimated Burden Hours Respondent: Form 9460—10 minutes, Form 9477—15 minutes.

Frequency of response: Annually.

Estimated Total Reporting Burden: 1 hour.

OMB Number: 1545-1770.

Regulation Project Number: REG-115054-01.

Type of Review: Extension.

Title: REG-115054-01 Final Treatment of Community Income for Certain Individuals Not Filing Join Returns.

Description: The regulations provide rules to determine how community income is treated under section 66 for certain married individuals in community property states who do not file joint individual Federal income tax returns. The regulations also reflect changes in the law made by the IRS Restructuring and Reform Act of 1998.

Respondents: Individuals or households.

Estimated Number of Respondents: 1.

Estimated Burden Hours Respondent: 1 hour.

Frequency of response: On occasion.

Estimated Total Reporting Burden: 1 hour.

OMB Number: 1545-1896.

Form Number: IRS Form 13551.

Type of Review: Extension.

Title: Application to Participate in the IRS Acceptance Agent Program.

Description: Form 13551 is used to gather information to determine applicant's eligibility in the Acceptance Agent Program.

Respondents: Business or other for-profit, Not-for-profit institutions, Federal Government, State, Local, or Tribal Government.

Estimated Number of Respondents: 12,825.

Estimated Burden Hours Respondent: 30 minutes.

Frequency of response: On occasion.

Estimated Total Reporting Burden: 6,413.

Clearance Officer: Paul H. Finger (202) 622-4078 , Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 05-1510 Filed 1-26-05; 8:45 am]

BILLING CODE 4830-01-P